DEPARTMENT OF LABOR

Employment and Training Administration

[TA-W-65,571]

Chrysler LLC, Warren Office Building, Warren, MI; Notice of Termination of Investigation

Pursuant to Section 221 of the Trade Act of 1974, as amended, an investigation was initiated on March 12, 2009, in response to a petition filed on behalf of workers at Chrysler LLC, Warren Office Building, Warren, Michigan. The workers at the subject facility are engaged in activities related to the production of motor vehicles and parts.

The petitioners have requested that the petition be withdrawn. Consequently, the investigation has been terminated.

Signed in Washington, DC, this 5th day of May 2009.
Richard Church,
Certifying Officer, Division of Trade Adjustment Assistance.

[FR Doc. E9-13446 Filed 6-8-09; 8:45 am]

BILLING CODE 4510-FN-P